DEPARTMENT OF ENERGY

Federal Energy Regulatory Commission

18 CFR Part 35

[Docket No. RM15-21-000]

Generator Interconnection Rules and Procedures

AGENCY: Federal Energy Regulatory Commission, DOE.

ACTION: Opportunity to comment on petition for rulemaking.

SUMMARY: Take notice that on June 19, 2015, the American Wind Energy Association filed a petition requesting that the Commission initiate a rulemaking to revise provisions of the pro forma Large Generator Interconnection Procedures and pro forma Large Generator Interconnection Agreement.

DATES: Comments are due August 6, 2015.

FOR FURTHER INFORMATION CONTACT:

Tony Dobbins (General Information), Federal Energy Regulatory Commission, Office of Energy Policy and Innovation, 888 First Street NE., Washington, DC 20426, (202) 502-6630

Adam Pan (Legal Information), Federal Energy Regulatory Commission, Office of the General Counsel, 888 First Street NE., Washington, DC 20426, (202) 502-6023

SUPPLEMENTARY INFORMATION:

Opportunity To Comment on Petition for Rulemaking

Take notice that on June 19, 2015, the American Wind Energy Association, pursuant to sections 205 and 206 of the Federal Power Act, 16 U.S.C. 824d and 824e (2012), and Rule 207(a)(4) of the Federal Energy Regulatory Commission's (Commission) Rules of Practice and Procedure, 18 CFR 385.207(a)(4) (2014), filed a petition requesting that the Commission initiate a rulemaking to revise provisions of the pro forma Large Generator Interconnection Procedures and pro forma Large Generator Interconnection Agreement.

Any person that wishes to comment in this proceeding must file comments in accordance with Rule 211 of the Commission's Rules of Practice and Procedure, 18 CFR 385.211 (2014). Comments will be considered by the Commission in determining the appropriate action to be taken. Comments must be filed on or before the comment date.

The Commission encourages electronic submission of comments in lieu of paper using the “eFiling” link at http://www.ferc.gov. Persons unable to file electronically should submit an original and 5 copies of the comments to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 6, 2015.

Dated: July 7, 2015.
Kimberly D. Bose,
Secretary.

[FR Doc. 2015-17306 Filed 7-14-15; 8:45 am]

BILLING CODE 6717-01-P